DEPARTMENT OF HEALTH AND HUMAN SERVICES

Indian Health Service

Office of Urban Indian Health Programs; 4-in-1 Grant Programs

Announcement Type: New and Competing Continuation.

Funding Announcement Number: HHS-2019-IHS-UIHP2-0002.

Assistance Listing (Catalog of Federal Domestic Assistance or CFDA) Number: 93.193.

Key Dates

Application Deadline Date: May 30, 2019.

Earliest Anticipated Start Date: July 1, 2019.

I. Funding Opportunity Description

Statutory Authority

The Indian Health Service (IHS) Office of Urban Indian Health Programs (OUIHP) is accepting applications for competitive grants for the Fiscal Year (FY) 2019 4-in-1 for Urban Indian Organizations. This program is authorized under the Snyder Act, 25 U.S.C. 13, Public Law (Pub. L.) 67-85, and Title V of the Indian Health Care Improvement Act (IHCIA), Public Law 94-437, as amended, specifically the provisions codified at 25 U.S.C. 1653(c)-(e) (authorizing grants for health promotion and disease prevention services, immunization services and mental health services), and § 1660a (authorizing grants for alcohol and substance abuse related services). This program is described in the Catalog of Federal Domestic Assistance (CFDA) under 93.193.

Background

In the late 1960s, Urban Indian community leaders began advocating at the local, State and Federal levels to address the unmet health care needs of Urban Indians, and requested health care services and programs. These efforts resulted in an increase of preventative, medical, and behavioral health services, but there was growing recognition of challenges preventing Urban Indians in seeking health care services. To address these barriers, advocacy focused on the development of culturally appropriate activities that were unique to the social, cultural and spiritual needs of American Indians and Alaska Natives residing in urban settings. Programs developed at that time were staffed by volunteers in storefront settings with limited budgets offering primary care and outreach and referral-type services.

In response to efforts of the Urban Indian community leaders, Congress appropriated funds in 1966, through the IHS, for a pilot urban clinic in Rapid City, South Dakota. In 1973, Congress appropriated funds to study unmet Urban Indian health needs in Minneapolis, Minnesota. The findings of this study documented cultural, economic, and access barriers to health care and led to congressional appropriations under the Snyder Act to support emerging Urban Indian clinics in several Bureau of Indian Affairs relocation cities, e.g., Seattle, San Francisco, Tulsa, and Dallas. In 1976, Congress passed the IHCIA, Public Law 94-437, establishing the Urban Indian health program under Title V. Congress reauthorized the IHCIA in 2010 under Public Law 111-148 (2010). This law is considered health care reform legislation to improve the health and well-being of all American Indians and Alaska Natives, including Urban Indians. Title V-specific funding is authorized for the development of programs for Urban Indians residing in urban areas. These areas include health promotion and disease prevention (HP/DP) services, immunization services, alcohol and substance abuse related services, and mental health services, hereafter referred to as “4-in-1,” health programs or services.

Purpose

The purpose of this IHS grant announcement is to award funding to Urban Indian Organizations to ensure the highest possible health status for Urban Indians. Funding will be used to support the 4-in-1 health program objectives. Specifically, the four health programs are: (1) HP/DP services, (2) immunization services, (3) alcohol and substance abuse related services, and (4) mental health services. These programs are integral components of the IHS health care delivery system. Funds from this effort will ensure that comprehensive, culturally acceptable personal and public health services are available and accessible to Urban Indians.

II. Award Information

Type of Awards

Grants.

Estimated Funds Available

The total amount of funding identified for FY 2019 is approximately $980,000. Total funding available for competitive new and competing continuation awards issued under this announcement is subject to the availability of appropriations and budgetary priorities of the Agency. The IHS is under no obligation to make awards that are selected for funding under this announcement.

New applicants are eligible to apply for funding, up to $200,000 per budget year, under this funding announcement. Current 4-in-1 grantees are eligible to apply for competing continuation funding under this announcement and must demonstrate that they have complied with previous terms and conditions of the 4-in-1 grant in order to receive funding under this announcement. Current 4-in-1 grantees may request annual funds up to the total cost amount approved in the last noncompeting award.

Anticipated Number of Awards

Approximately 9 grants will be issued under this program announcement.

Project Period

The project period is for three years.

III. Eligibility Information

1. Eligibility

To be eligible for this New and Competing Continuation Funding Opportunity, applicants must be an Urban Indian Organization (UIO) administering a contract or grant under 25 U.S.C. 1653. Urban Indian Organizations are defined by 25 U.S.C. 1603(29) as a nonprofit corporate body situated in an urban center, governed by an Urban Indian controlled board of directors, and providing for the maximum participation of all interested Indian groups and individuals, which body is capable of legally cooperating with other public and private entities for the purpose of performing the activities described in 25 U.S.C. 1653(a). Applicants must provide proof of nonprofit status with the application such as 501(c)(3) Certificate.

Current 4-in-1 grantees awarded in FY 2019 under announcement HHS-2019-IHS-UIHP2-0001 are not eligible to apply for this New and Competing Continuation Funding Opportunity.

Note: Please refer to Section IV (Application and Submission Information/Subsection 2, Content and Form of Application Submission) for additional proof of applicant status documents required, such as, 501(c)(3) Certificate, copy of current Negotiated Indirect Cost Rate agreement, etc.

2. Cost Sharing or Matching

The IHS does not require matching funds or cost sharing for grants or cooperative agreements.

3. Other Requirements

Application budget requests that exceed the highest dollar amount outlined under the “Estimated Funds Available” section will be considered nonresponsive and will not be reviewed. The applicant will be notified by the IHS Division of Grants Management (DGM).

Note: The highest dollar amount new applicants are eligible to apply for funding is up to $200,000 per budget year. The highest dollar amount current 4-in-1 grantees are eligible to apply for funding is up to the total cost amount approved in the last noncompeting award per budget period.

Each grantee shall provide health care services to eligible Urban Indians living within the urban center in which the UIO is situated. An “Urban Indian” eligible for services, as codified at 25 U.S.C. 1603(13), (27), and (28), includes any individual who:

1. Resides in an urban center, which is any community that has a sufficient Urban Indian population with unmet health needs to warrant assistance under the IHCIA, as determined by the Secretary, HHS; and who meets one or more of the following criteria:

a. Irrespective of whether he or she lives on or near a reservation, is a member of a Tribe, band, or other organized group of Indians, including:

i. Those Tribes, bands, or groups terminated since 1940, and

ii. those recognized now or in the future by the State in which they reside, or

b. Is a descendant, in the first or second degree, of any such member described in 1.a.; or

c. Is an Eskimo, or Aleut, or other Alaska Native; or

d. Is a California Indian; ¹ or

¹ Consistent with 25 U.S.C. 1603(3), (13), (28), and 1679, eligibility of California Indians may be demonstrated by documentation that the individual:

1. Is a descendant of an Indian who was residing in the State of California on June 1, 1852;

2. Holds trust interests in public domain, national forest, or Indian reservation allotments; or

3. Is listed on the plans for distribution of assets of California Rancherias and reservations under the Act of August 18, 1958 (72 Stat. 619), or is the descendant of such an individual.

e. Is considered by the Secretary of the Department of the Interior to be an Indian for any purpose; or

f. Is determined to be an Indian under regulations pertaining to Urban Indian health that are promulgated by the Secretary, HHS.

Each grantee is responsible for taking reasonable steps to confirm that the individual is eligible for IHS services as an Urban Indian.

Documentation of Support

The UIO must submit a letter of support from their organization's board of directors.

Proof of Non-Profit Status

The UIO claiming nonprofit status must submit proof. A copy of the 501(c)(3) Certificate must be submitted with the application by the Application Deadline Date.

IV. Application and Submission Information

1. Obtaining Application Materials

The application package and detailed instructions for this announcement are found online at http://www.Grants.gov or http://www.ihs.gov/dgm/funding/.

Please direct questions regarding the application process to Mr. Paul Gettys at (301) 443-2114 or (301) 443-5204.

2. Content and Form of Application Submission

The application must include the project narrative as an attachment to the application package. Mandatory documents for all applicants include:

• Table of contents.

• Abstract (one page) summarizing the project.

• Application forms:

○ SF-424, Application for Federal Assistance.

○ SF-424A, Budget Information—Non-Construction Programs. Each of the 4 health program objectives (HP/DP services, immunization services, alcohol and substance abuse related services, and mental health services), should be addressed in a separate Grant Program Function or Activity row/column in the SF-424A.

○ SF-424B, Assurances—Non-Construction Programs.

• Project Narrative (not to exceed 20 pages).

○ Includes the statement of need, proposed scope of work, required objectives, activities that provide a description of what will be accomplished, and evaluation and performance measurement plan.

• Budget Justification and Narrative (not to exceed 5 pages).

• 501(c)(3) Certificate.

• Letters of support from the UIO's board of directors.

• Biographical sketches for all Key Personnel (not to exceed one page each).

• Contractor/Consultant proposed scope of work and letter of commitment (not to exceed one page each, if applicable).

• Disclosure of Lobbying Activities (SF-LLL).

• Certification Regarding Lobbying (GG-Lobbying Form).

• Copy of current Negotiated Indirect Cost (IDC) Rate agreement (required in order to receive indirect costs).

• Organizational chart or written information that shows where the HP/DP services, immunization services, alcohol and substance abuse related services, and mental health services fit into the larger organization.

• Documentation of current Office of Management and Budget (OMB) Financial Audit (if applicable).

Acceptable forms of documentation include:

○ Email confirmation from Federal Audit Clearinghouse (FAC) that audits were submitted; or

○ Face sheets from audit reports. These can be found on the FAC Website at https://harvester.census.gov/facdissem/Main.aspx.

Public Policy Requirements

All Federal-wide public policies apply to IHS grants, with exception of the Discrimination policy.

Requirements for Project and Budget Narratives

The project narrative (Parts A through D listed below) should be a separate document not to exceed 20 pages that must: (1) Have consecutively numbered pages; (2) use black text no smaller than 12-point font; (3) and be formatted to fit standard letter paper (8½ x 11 inches).

Be sure to succinctly answer all questions listed under the evaluation criteria (refer to Section V.1, Evaluation criteria in this announcement) and place all responses and required information in the correct section. Applications not organized as noted below will not be considered or scored. These narratives will assist the Objective Review Committee (ORC) in becoming familiar with the applicant's activities. Applications with narratives exceeding the page limit may be deemed nonresponsive. The 20-page limit for the project narrative does not include the table of contents, abstract, standard forms, and/or other appendix items.

A. Project Narrative:

There are four parts to the project narrative:

Part A—Statement of Need;

Part B—Program Information/Proposed Approach;

Part C—Organizational Capacity and Staffing/Administration; and,

Part D—Performance Measurement Plan and Evaluation.

See below for additional details about the content for inclusion in the project narrative.

Part A: Statement of Need—Corresponds to Evaluation Criteria (Section V. 1.A.).

The statement of need describes the history and urban center currently served by the applicant. The statement of need provides the facts and evidence that support the need for these projects (HP/DP services, immunization services, alcohol and substance abuse related services, and mental health services) and establishes that the UIO understands the problems and can reasonably address them.

• Describe the current service gaps, including disconnection between available services and unmet needs of Urban Indians. This should include services at the UIO and in communities where Urban Indians reside.

• Describe the need for an enhanced infrastructure to increase the capacity to implement, sustain, and improve effective health care services offered to Urban Indians and any other service gaps and problems related to the need for infrastructure development within the UIO.

Part B: Program Information/Proposed Approach—Corresponds to Evaluation Criteria (Section V.1.B.).

State the purpose, goals, and objectives of your proposed projects. Clearly state how proposed activities address the needs detailed in the statement of need. Describe fully and clearly plans to meet these projects (HP/DP services, immunization services, alcohol and substance abuse related services, and mental health services) of this funding announcement. Each objective should be addressed with a corresponding time frame. Provide a work plan for year one budget period that details expected key activities, accomplishments, and includes responsible staff for each of these projects (HP/DP services, immunization services, alcohol and substance abuse related services, and mental health services).

Part C: Organizational Capacity and Staffing/Administration—Corresponds to Evaluation Criteria (Section V.1.C.).

This section should describe your organizational capacity for each of these projects (HP/DP services, immunization services, alcohol and substance abuse related services, and mental health services). Current staff and future positions for the four program components should also be outlined.

• Identify qualified professionals who will implement and administer the proposed grant activities, including progress and financial reports.

• Identify contact person to maintain open and consistent communication with the IHS program official on any financial or programmatic barriers to meeting the requirements of the award.

• Describe the organization's current system and ability to develop partnerships with service providers and community programs, including families and support systems of Urban Indians.

• Describe potential project partners and community resources in the urban center.

Part D: Performance Measurement Plan and Evaluation—Corresponds to Evaluation Criteria (Section V.1.D.).

This section of the application should describe efforts to collect and report project data that will support and demonstrate grant activities for each of these projects (HP/DP services, immunization services, alcohol and substance abuse related services, and mental health services). Grantees will be required to participate in a national evaluation of the 4-in-1 grant program. Grantees will also be required to collect and report data pertaining to activities, processes, and outcomes. Data collection activities should capture and document actions conducted throughout awarded years, including activities that will contribute to relevant project impact. This section should also describe the applicant's plan to evaluate program activities, including any evidence-based prevention or treatment programs implemented. The evaluation plan should describe expected results and any identified metrics to support program effectiveness. Evaluation plans should incorporate questions related to outcomes and processes, including documentation of lessons learned.

• Describe in a brief narrative a plan to monitor activities under each of these projects (HP/DP services, immunization services, alcohol and substance abuse related services, and mental health services) to demonstrate progress towards program outcomes and inform future program decisions over the three-year project period.

• Describe proposed evaluation methods, including performance measures and other data relevant to evaluation outcomes, including intended results (e.g., impact and outcomes). Include any partners who will assist in evaluation efforts if separate from the primary applicant.

B. Budget and Budget Narrative—Corresponds to Evaluation Criteria (Section V.1.E.).

This narrative must include a line item budget for these projects (HP/DP services, immunization services, alcohol and substance abuse related services, and mental health services) with a narrative justification for all expenditures identifying reasonable allowable, allocable costs necessary to accomplish the goals and objectives as outlined in the project narrative. The budget should match the scope of work described in the project narrative. The budget and budget narrative should be no longer than five pages. For subsequent budget years, the narrative should highlight the changes from year one, or clearly indicate that there are no substantive budget changes during the period of performance. Do not use the budget narrative to expand the project narrative.

This section must succinctly but completely address the items listed under the Evaluation criteria in Section V.1.E. Budget and Budget Narrative.

3. Submission Dates and Times

Applications must be submitted through Grants.gov by 11:59 p.m., Eastern Daylight Time (EDT) on the Application Deadline Date. Any application received after the application deadline will not be accepted for review. Grants.gov will notify the applicant via email if the application is rejected.

If technical challenges arise and assistance is required with the application process, contact Grants.gov Customer Support (see contact information at https://www.grants.gov). If problems persist, contact the Grant Systems Coordinator listed under Agency Contacts in Section VII. Please contact at least 10 days prior to the application deadline. Please do not contact the DGM until you have received a Grants.gov tracking number. In the event you are not able to obtain a tracking number, call the DGM as soon as possible.

The IHS will not acknowledge receipt of applications.

4. Intergovernmental Review

Executive Order 12372 requiring intergovernmental review is not applicable to this program.

5. Funding Restrictions

• The available funds are inclusive of direct and indirect costs.

• Only one grant will be awarded per applicant.

6. Application Submission Requirements

All applications must be submitted via the Grants.gov website at http://www.Grants.gov. Find the application by selecting the “Search Grants” link on the homepage. Application submission instructions can be found under the Package Tab. No other method of application submission is acceptable.

If the applicant cannot submit an application through Grants.gov, a waiver must be requested. Prior approval must be requested and obtained from Mr. Robert Tarwater, Director, DGM, IHS, (see Section IV.6 described above for additional information). A written waiver request must be sent to GrantsPolicy@ihs.gov with a copy to Robert.Tarwater@ihs.gov. The waiver must: (1) Be documented in writing (emails are acceptable) before submitting an application by some other method, and (2) include clear justification for the need to deviate from the required application submission process.

If the waiver request is approved, the applicant will receive a confirmation of approval by email containing submission instructions. A copy of the written approval must be included with the application that is submitted to the DGM. Applications that are submitted without a copy of the signed waiver from Mr. Robert Tarwater, Director of the DGM will not be reviewed. The applicant will be notified via email of this decision by the DGM. Applications submitted under waiver must be received by the DGM no later than 5:00 p.m., EDT, on the Application Deadline. Late applications will not be accepted for processing. Applicants that do not register with both the System for Award Management (SAM) and Grants.gov and/or fail to request timely assistance with technical issues will not be considered for a waiver to submit an application via alternative method.

Please be aware of the following:

• Please search for the application package in http://www.Grants.gov by entering the CFDA number or the Funding Opportunity Number. Both numbers are located in the header of this announcement.

• If you experience technical challenges while submitting your application, please contact Grants.gov Customer Support (see contact information at https://www.grants.gov).

• Upon contacting Grants.gov, obtain a tracking number as proof of contact. The tracking number is helpful if there are technical issues that cannot be resolved and a waiver from the agency must be obtained.

• Applicants are strongly encouraged not to wait until the deadline date to begin the application process through Grants.gov, as the registration process for SAM and Grants.gov could take up to 20 working days.

• Please follow the instructions on Grants.gov to include additional documentation that may be requested by the funding announcement.

• Applicants must comply with any applicable page limits described in this funding announcement.

• After submitting the application, the applicant will receive an automatic acknowledgement from Grants.gov that contains a Grants.gov tracking number. The IHS will not notify the applicant whether the application has been received.

Dun and Bradstreet (D&B) Data Universal Numbering System (DUNS)

Applicants and grantee organizations are required to obtain a DUNS number and maintain an active registration in the SAM database. The DUNS number is a unique 9-digit identification number provided by D&B that uniquely identifies each entity. The DUNS number is site-specific; therefore, each distinct performance site may be assigned a DUNS number. Obtaining a DUNS number is easy, and there is no charge. To obtain a DUNS number, please access the Government Customer support center request service through http://fedgov.dnb.com/webform, or call toll-free (866) 705-5711.

All HHS recipients are required by the Federal Funding Accountability and Transparency Act of 2006 (, as amended (“Transparency Act), to report information on sub-awards. Accordingly, all IHS grantees must notify potential first-tier sub-recipients that no entity may receive a first-tier sub-award unless the entity has provided its DUNS number to the prime grantee organization This requirement ensures the use of a universal identifier to enhance the quality of information available to the public pursuant to the Transparency Act.

System for Award Management (SAM)

Organizations that are not registered with SAM will need to obtain a DUNS number first and then access the SAM online registration through the SAM home page at https://www.sam.gov (U.S. organizations will also need to provide an Employer Identification Number from the Internal Revenue Service that may take an additional 2-5 weeks to become active. Please see SAM.gov for details on the registration process and timeline. Registration with the SAM is free of charge, but can take several weeks to process. Applicants may register online at https://www.sam.gov.

Additional information on implementing the Transparency Act, including the specific requirements for DUNS and SAM, can be found on the DMG, Policy Topics website: http://www.ihs.gov/dgm/policytopics/.

V. Application Review Information

Weights assigned to each section are noted in parentheses. The 20-page project narrative and 5-page budget and budget narrative should include only the first year activities; information for multiyear projects should be included as an appendix. See “Multiyear Project Requirements” at the end of this section for more information. The narrative section should be written in a manner that is clear to outside reviewers unfamiliar with prior related activities of the applicant. It should be well organized, succinct, and contain all information necessary for reviewers to understand the project fully. Points will be assigned to each evaluation criteria adding up to a total of 100 points. Points are assigned as follows:

1. Evaluation Criteria

Applications will be reviewed and scored according to the quality of responses to the required application components in Sections A-E outlined below. In developing the required sections of this application, use the instructions provided for each section, which have been tailored to this program. The application must use the five sections (Sections A-E) listed below in developing the narratives. The applicant must place the required information in the correct section or it will not be considered for review. The application will be scored according to how well the applicant addresses the requirements for each section listed below. The number of points after each section heading is the maximum number of points the review committee may assign to that section. Although scoring weights are not assigned to individual bullets, each bullet is assessed deriving the overall section score.

A. Statement of Need (25 Points)

Applications will be evaluated based on following criteria:

1. Identify the proposed urban center and provide demographic information on the population(s) to receive services. Describe the stakeholders and resources in the urban center that can help implement activities for these projects (HP/DP services, immunization services, alcohol and substance abuse related services, and mental health services).

2. Based on the information and/or data currently available, document the need to implement, sustain, and improve health care services offered to Urban Indians.

3. Based on available data, describe the service gaps and other problems related to the needs of Urban Indians. Identify the source of the data. Documentation of need may come from a variety of qualitative and quantitative sources. Examples of data sources for the quantitative data that could be used are local epidemiologic data such as Tribal Epidemiology Centers or IHS Area Offices, state data from state needs assessments, and/or national data from the Substance Abuse and Mental Health Services Administration's National Survey on Drug Use and Health or from the National Center for Health Statistics/Centers for Disease Control, and census data. This list is not exhaustive. Applicants may submit other valid data, as appropriate for the applicant's programs.

B. Program Information/Proposed Approach (30 Points)

Applications will be evaluated based on following criteria:

• Describe the purpose of the proposed project, including a clear statement of goals and objectives. The proposed project narrative is required to address all four projects of the 4-in-1 grant program, including: (1) HP/DP services, (2) immunization services, (3) alcohol and substance abuse related services, and (4) mental health.

○ HP/DP: Applicants are encouraged to use evidence-based and promising strategies which can be found at the IHS best practice database http://www.ihs.gov/hpdp/, the National Registry for Effective Programs at http://www.nrepp.samhsa.gov/, and the Guide to Community Preventive Services at http://www.thecommunityguide.org/about/conclusionreport.html. Applicants are encouraged to work collaboratively with their assigned Area HP/DP Coordinator.

○ Immunization: Applicants are encouraged to participate in the Vaccines for Children program (if applicable). Applicants are encouraged to research capability with State/regional immunization registry (where applicable). For sites using the IHS Resource and Patient Measurement System (RPMS), provide training sessions to providers and data entry clerks on the RPMS Immunization package. Establish a process for immunization data entry into RPMS (e.g., point of service or through standard data entry). Utilize RPMS Immunization package to identify 3- to 27-month-old children whose immunization records are not up to date that generates reminder/recall letters. Applicants are encouraged to work collaboratively with their assigned Area Immunization Coordinator.

○ Alcohol and Substance Abuse: Describe services to be provided, e.g., residential, detox, halfway house, counseling, outreach and referral, etc. Describe substance abuse prevention and education efforts to increase access to services, outreach, education, prevention, and treatment of substance abuse-related issues. Applicants are encouraged to work collaboratively with their assigned Area Behavioral Health Consultant.

○ Mental Health: Identify services to be provided, e.g., community outreach and referral, prevention, training sessions, evaluations, schools, domestic violence programs, child abuse programs, etc. Describe mental health prevention and education program efforts to increase access to services, outreach, referral, education, prevention, and treatment of mental health related issues. Applicants are encouraged to work collaboratively with their assigned Area Behavioral Health Consultant.

• Describe how project activities will increase the capacity of the UIO to improve access to and quality of care for Urban Indians.

• Describe anticipated barriers and how these barriers will be addressed.

• Describe how the proposed project will address issues of diversity for Urban Indians, including race/ethnicity, gender, culture/cultural identity, language, sexual orientation, disability, and literacy.

• Describe how Urban Indians may receive services in these projects (HP/DP services, immunization services, alcohol and substance abuse related services, and mental health services) and how they will be involved in the planning and implementation of the grant.

• Describe how the efforts of the proposed project will be coordinated with any other related Federal grants, including IHS, SAMHSA, or Health Resources and Services Administration, etc. (if applicable).

• Provide a work plan for year one project period that details expected key activities, accomplishments, and includes responsible staff for each of these projects (HP/DP services, immunization services, alcohol and substance abuse services, and mental health services).

C. Organizational Capacity and Staffing/Administration (15 Points)

Applications will be evaluated based on following criteria:

• Describe the management capability of the UIO and other participating organizations in administering similar projects.

• Identify staff to maintain open and consistent communication with the IHS program official on any financial or programmatic barriers to meeting the requirements of the award.

• Identify the department(s) and/or division(s) that will administer these projects (HP/DP services, immunization services, alcohol and substance abuse related services, and mental health services). Include a description of these department(s) and/or division(s), their functions, and their placement within the UIO and their direct link to management.

• Discuss the UIO's experience and capacity to provide culturally appropriate and competent services to the community and specific populations of focus.

• Describe the resources available for the proposed project (e.g., facilities, equipment, information technology systems, and financial management systems).

• Identify other organization(s) that will participate in the proposed project. Describe their roles and responsibilities and demonstrate their commitment to these projects (HP/DP services, immunization services, alcohol and substance abuse related services, and mental health services).

• Describe how project continuity will be maintained if there is a change in the operational environment (e.g., staff turnover, change in project leadership, etc.) to ensure project stability over the life of the grant.

• Provide a list of staff positions for the project and other key personnel, showing the role of each and their level of effort and qualifications for these projects (HP/DP services, immunization services, alcohol and substance abuse related services, and mental health services). Key personnel include the Chief Executive Officer or Executive Director, Chief Financial Officer, Medical Director, and Information Officer.

• Demonstrate successful project implementation for the level of effort budgeted for the project staff and other key staff.

• Include position descriptions as attachments to the application for all key personnel. Position descriptions should not exceed one page each. Reviewers will not consider information past one page. Note: Attachments will not count against the 20-page maximum.

• For individuals who are currently on staff, include a biographical sketch with their name (do not include personally identifiable information such as social security number or date and place of birth) for each individual that will be listed as the project staff and other key positions. Describe the experience of identified staff in these projects (HP/DP services, immunization services, alcohol and substance abuse related services, and mental health services). Include each biographical sketch as attachments to the project proposal/application. Biographical sketches should not exceed one page per staff member. Reviewers will not consider information past one page. Note: The attachment will not count as part of the 20-page limit. Do not include any of the following:

○ Personally Identifiable Information (social security number and date and place or birth);

○ Resumes; or

○ Curriculum Vitae.

D. Performance Measurement Plan and Evaluation (20 Points)

Describe plans to monitor activities under each of these projects (HP/DP services, immunization services, alcohol and substance abuse related services, and mental health services), demonstrate progress towards program outcomes, and inform future program decisions over the 3-year project period. Applications will be evaluated based on following criteria and should address the following points:

• Describe proposed data collection efforts (performance measures and associated data) and how you will use the data to answer evaluation questions. This should include (data collection method, data source, data measurement tool, identified staff for data management, and data collection timeline).

• Identify key program partners and describe how they will participate in the implementation of the evaluation plan (e.g., Tribal Epidemiology Centers, universities, etc.).

• Describe data collection and evaluation of any proposed evidence-based care programs implemented throughout awarded years.

• Describe how evaluating findings will be used at the applicant level. Discuss how data collected (e.g., performance measurement data) will be used and shared by the key program partners.

• Discuss any barriers or challenges expected for implementing the plan, collecting data (e.g., responding to performance measures), and reporting on evaluation results. Describe how these potential barriers would be overcome. In addition, applicants may also describe other measures to be developed or additional data sources and data collection methods that applicants will use.

E. Budget and Budget Narrative (10 Points)

Applications will be evaluated based on following criteria:

• Include a line item budget for each of these projects (HP/DP services, immunization services, alcohol and substance abuse related services, and mental health services) for all expenditures identifying reasonable and allowable costs necessary to accomplish the goals and objectives as outlined in the project narrative for Budget year one only.

• Provide a categorized budget for each of these projects (HP/DP services, immunization services, alcohol and substance abuse related services, and mental health services).

• Applicants should ensure that the budget and budget narrative are aligned with the project narrative. The budget and budget narrative the applicant provides will be considered by reviewers in assessing the applicant's submission, along with the material in the project narrative. Questions to address include: What resources are needed to successfully carry out and manage the project? What other resources are available from the organization? Will new staff be recruited? Will outside consultants be required?

• For any outside consultants, include the total cost broken down by activity.

• If indirect costs are claimed, indicate and apply the current negotiated rate to the budget. Include a copy of the current negotiated IDC rate agreement in the appendix.

Multi-Year Project Requirements

Applications must include a brief project narrative and budget (one additional page per year) addressing the developmental plans for each additional year of the project. The attachment will not count as part of the 20-page project narrative and 5-page budget and budget narrative.

Additional Documents Can Be Uploaded as Appendix Items in Grant.gov

• Work Plan, logic model, and/or time line for proposed objectives.

• Position descriptions for key staff (not to exceed one page each).

• Biographical sketches for key staff (not to exceed one page each).

• Consultant or contractor proposed scope of work and letter of commitment (if applicable).

• Current Negotiated Indirect Cost Rate Agreement.

• Organizational chart.

• Additional documents to support narrative (data tables, key news articles, etc.).

2. Review and Selection

Each application will be screened for eligibility and completeness as outlined in the funding announcement. Applications that meet the eligibility criteria shall be reviewed for merit by the ORC based on the evaluation criteria. Incomplete applications and applications that are nonresponsive to not just administrative thresholds will not be referred to the ORC and will not be funded. The applicant will be notified of this determination.

Applicants must address all program requirements and provide all required documentation.

3. Notifications of Disposition

All applicants will receive an Executive Summary Statement from the IHS OUIHP within 30 days of the conclusion of the ORC outlining the strengths and weaknesses of their application. The summary statement will be sent to the Authorizing Official identified on the face page (SF-424) of the application.

A. Award Notices for Funded Applications

The Notice of Award (NoA) is the authorizing document for which funds are dispersed to the approved entities and reflects the amount of Federal funds awarded, the purpose of the grant, the terms and conditions of the award, the effective date of the award, and the budget and project period. Each entity approved for funding must have a user account in GrantSolutions in order to retrieve the NoA. Please see the Agency Contacts list in Section VII for the systems contact information.

B. Approved but Unfunded Applications

Approved applications not funded due to lack of available funds will be held for 1 year. If funding becomes available during the course of the year, the application may be reconsidered.

Note: Any correspondence other than the official NoA executed by an IHS grants management official announcing to the project director that an award has been made to their organization is not an authorization to implement their program on behalf of the IHS.

VI. Award Administration Information

1. Administrative Requirements

Grants are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

2. Indirect Costs

This section applies to all recipients requesting reimbursement of indirect costs (IDC) in their application budget. In accordance with HHS Grants Policy Statement, Part II-27, the IHS requires applicants to obtain a current negotiated IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate agreement is provided to the DGM.

Generally, IDC rates for grantees are negotiated with the Division of Cost Allocation (DCA) https://rates.psc.gov/. For questions regarding the indirect cost policy, please call the Grants Management Specialist listed under Agency Contacts in Section VII or the main DGM office at (301) 443-5204.

3. Reporting Requirements

The grantee must submit required reports consistent with the applicable deadlines. Failure to submit required reports within the time allowed may result in suspension or termination of an active grant, withholding of additional awards for the project, or other enforcement actions, such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions at https://home.grantsolutions.gov/home/. Personnel responsible for submitting reports will be required to obtain a login and password for GrantSolutions. Please see the Agency Contacts list in Section VII for the systems contact information.

The reporting requirements for this program are noted below.

A. Progress Reports

The grantee shall, consistent with 25 U.S.C. 1655 and 1657, submit quarterly reports demonstrating compliance with the grant, including an explanation of activities conducted pursuant to the grant, information gathered, a brief comparison of actual accomplishments to the goals established for the period, a summary of progress to date, justification for the lack of progress (if applicable), and an accounting for the amounts and purposes for which Federal funds were expended, and such other information as the Government may request. The quarters are based on the start of the budget period. Quarterly reports are due 30 days after the end of each quarter. A final report must be submitted within 90 days of expiration of each budget period.

B. Financial Reports

Federal Financial Report (FFR) (SF-425), Cash Transaction Reports are due 30 days after the close of every calendar quarter to the Payment Management Services, HHS, at https://pms.psc.gov. The applicant is also requested to upload a copy of the FFR SF-425 report into the grants management system, GrantSolutions. Failure to submit timely reports may result in adverse award actions blocking access to funds.

Grantees are responsible and accountable for accurate information being reported on all required reports: The Progress Reports and Federal Financial Report.

C. Government Performance and Results Act and Uniform Data System Reporting

Government Performance and Results Act (GPRA) data shall be submitted electronically to the National Data Warehouse (NDW). All GPRA data submitted shall be verifiable and based upon criteria set forth for each GPRA performance standard. The GPRA data period shall be the Federal fiscal year of October 1 through September 30. Monthly registration and workload data shall be exported to the NDW. All data shall be exported by the cutoff date for that fiscal year. A GPRA Developmental Report shall be run at the end of the second and fourth quarters and sent to the National GPRA Support Team at caogpra@ihs.gov by the required due dates.

Uniform Data System (UDS) reporting period shall be by calendar year. The UDS reports shall be due in January for the previous calendar year.

D. Quarterly Immunization Report

Quarterly Immunization Reports are required and submitted to the online National Immunization Reporting System (NIRS). Grantees are required to submit immunization coverage reports on children 3 to 27-month-old, 2-year-old, Adolescent, and Adult and Influenza on a quarterly basis. For sites not using the IHS RPMS, visit the Division of Epidemiology and Disease Prevention (DEDP), Vaccine—Preventable Diseases Reports website to access non-RPMS quarterly reporting forms. An EXCEL spreadsheet with the required data elements can be found under the “Non-RPMS Quarterly Reporting Forms” section at: https://www.ihs.gov/epi/vaccine/reports/.

E. Quarterly Unmet Needs Report

The grantee shall, consistent with 25 U.S.C. 1653(a), 1655, and 1657(a), submit an unmet needs report quarterly. The report includes information gathered by the grantee to: (1) Identify gaps between unmet health needs of Urban Indians and the resources available to meet such needs; and (2) make recommendations to the Secretary and Federal, State, local, and other resource agencies on methods of improving health services to meet the needs of Urban Indians. The grantee shall upload the unmet needs report 30 days after the end of the quarter into GrantSolutions at https://home.grantsolutions.gov/home/.

F. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

The IHS has implemented a Term of Award into all IHS Standard Terms and Conditions, NoAs, and funding announcements regarding the FSRS reporting requirement. This IHS Term of Award is applicable to all IHS grant and cooperative agreements issued on or after October 1, 2010, with a $25,000 sub-award obligation dollar threshold met for any specific reporting period. Additionally, all new (discretionary) IHS awards (where the period of performance is made up of more than one budget period) and where: (1) The period of performance start date was October 1, 2010 or after, and (2) the primary awardee will have a $25,000 sub-award obligation dollar threshold during any specific reporting period will be required to address the FSRS reporting.

For the full IHS award term implementing this requirement and additional award applicability information, visit the DGM, Policy Topics web page at http://www.ihs.gov/dgm/policytopics/.

G. Compliance With Executive Order 13166 Implementation of Services Accessibility Provisions for All Grant Application Packages and Funding Opportunity Announcements

Recipients of federal financial assistance (FFA) from HHS must administer their programs in compliance with federal civil rights law. This means that recipients of HHS funds must ensure equal access to their programs without regard to a person's race, color, national origin, disability, age and, in some circumstances, sex and religion. This includes ensuring your programs are accessible to persons with limited English proficiency. The HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under federal civil rights laws at https://www.hhs.gov/ocr/about-us/contact-us/index.html or call (800) 368-1019 or TDD (800) 537-7697. Also note it is an HHS Departmental goal to ensure access to quality, culturally competent care, including long-term services and supports, for vulnerable populations. For further guidance on providing culturally and linguistically appropriate services, recipients should review the National Standards for Culturally and Linguistically Appropriate Services in Health and Health Care at https://minorityhealth.hhs.gov/omh/browse.aspx?lvl=2&lvlid=53.

Pursuant to 45 CFR 80.3(d), an individual shall not be deemed subjected to discrimination by reason of his/her exclusion from benefits limited by federal law to individuals eligible for benefits and services from the IHS.

Recipients will be required to sign the HHS-690 Assurance of Compliance form, which can be obtained from the following website: http://www.hhs.gov/sites/default/files/forms/hhs-690.pdf, and send it directly to the: U.S. Department of Health and Human Services, Office of Civil Rights, 200 Independence Avenue SW, Washington, DC 20201.

H. Federal Awardee Performance and Integrity Information System (FAPIIS)

The IHS is required to review and consider any information about the applicant that is in the Federal Awardee Performance and Integrity Information System (FAPIIS) at https://www.fapiis.gov, before making any award in excess of the simplified acquisition threshold (currently $150,000) over the period of performance. An applicant may review and comment on any information about itself that a federal awarding agency previously entered. The IHS will consider any comments by the applicant, in addition to other information in FAPIIS in making a judgment about the applicant's integrity, business ethics, and record of performance under federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive federal awards (currently active grants, cooperative agreements, and procurement contracts) greater than $10 million for any period of time during the period of performance of an award/project.

Mandatory Disclosure Requirements

As required by 2 CFR part 200 of the Uniform Guidance and the HHS implementing regulations at 45 CFR part 75, effective January 1, 2016, the IHS must require a non-federal entity or an applicant for a Federal award to disclose, in a timely manner, in writing to the IHS or pass-through entity all violations of federal criminal law involving fraud, bribery, or gratutity violations potentially affecting the federal award.

Submission is required for all applicants and recipients, in writing, to the IHS and to the HHS Office of Inspector General all information related to violations of federal criminal law involving fraud, bribery, or gratuity violations potentially affecting the federal award. 45 CFR 75.113.

Disclosures must be sent in writing to: U.S. Department of Health and Human Services, Indian Health Service, Division of Grants Management, ATTN: Robert Tarwater, Director, 5600 Fishers Lane, Mailstop: 09E70, Rockville, Maryland 20857. (Include “Mandatory Grant Disclosures” in the subject line.)

Office: (301) 443-5204.

Fax: (301) 594-0899.

Email: Robert.Tarwater@ihs.gov.

and

U.S. Department of Health and Human Services, Office of Inspector General, ATTN: Mandatory Grant Disclosures, Intake Coordinator, 330 Independence Avenue SW, Cohen Building, Room 5527, Washington, DC 20201.

Website address: https://oig.hhs.gov/fraud/report-fraud/. (Include “Mandatory Grant Disclosures” in the subject line.)

Fax: (202) 205-0604 (Include “Mandatory Grant Disclosures” in subject line) or

Email: MandatoryGranteeDisclosures@oig.hhs.gov.

Failure to make required disclosures can result in any of the remedies described in 45 CFR 75.371, Remedies for noncompliance, including suspension or debarment (See 2 CFR parts 180 & 376 and 31 U.S.C. 3321).

VII. Agency Contacts

1. Questions on programmatic issues may be directed to: Shannon Beyale, Health Information Specialist, Office of Urban Indian Health Programs, 5600 Fishers Lane, Mail Stop: 08E65D, Rockville, MD 20857, Telephone: (301) 945-3657, Fax: (301) 443-4794, Email: Shannon.Beyale@ihs.gov.

2. Questions on grants management and fiscal matters may be directed to: Pallop Chareonvootitam, Grants Management Specialist, 5600 Fishers Lane, Mail Stop: 09E70, Rockville, MD 20857, Telephone: (301) 443-5204, Fax: (301) 594-0899, Email: Pallop.Chareonvootitam@ihs.gov.

3. Questions on systems matters may be directed to: Paul Gettys, Grant Systems Coordinator, 5600 Fishers Lane, Mail Stop: 09E70, Rockville, MD 20857, Telephone: (301) 443-2114; or the DGM main line (301) 443-5204, Fax: (301) 594-0899, Email: Paul.Gettys@ihs.gov.

VIII. Other Information

The U.S. Public Health Service strongly encourages all grant, cooperative agreement, and contract recipients to provide a smoke-free workplace and promote the non-use of all tobacco products. In addition, the Pro-Children Act of 1994, (Pub. L. 103-227), prohibits smoking in certain facilities (or in some cases, any portion of the facility) in which regular or routine education, library, day care, health care, or early childhood development services are provided to children. This is consistent with the HHS mission to protect and advance the physical and mental health of the American people.

Michael D. Weahkee,
RADM, Assistant Surgeon General, U.S. Public Health Service, Principal Deputy Director, Indian Health Service.

[FR Doc. 2019-08414 Filed 4-25-19; 8:45 am]

BILLING CODE 4165-16-P